ENVIRONMENTAL PROTECTION AGENCY

40 CFR Part 52

[KY-103-; KY-107-; KY-110-; KY-114-; KY-115-; KY-122-9817(b); FRL-6999-3]

Approval and Promulgation of Air Quality Implementation Plans; Kentucky; Approval of Revisions to State Implementation Plan; Revised Format for Materials Being Incorporated by Reference for Jefferson County, KY

AGENCY: Environmental Protection Agency (EPA).

ACTION: Proposed rule.

SUMMARY: EPA is proposing to approve revisions to the Jefferson County portion of the Kentucky State Implementation Plan (SIP). The revisions were submitted to EPA on February 3, 1998; September 22, 1998; February 11, 1999; May 21, 1999; July 20, 1999; and September 22, 2000 by the Commonwealth of Kentucky through the Kentucky Natural Resources and Environmental Protection Cabinet. These submittals include miscellaneous rule revisions and the recodification of Jefferson County regulations.

EPA is also proposing to revise the format of 40 CFR part 52 for materials submitted by the Commonwealth of Kentucky that are incorporated by reference (IBR) into the Jefferson County portion of the Kentucky SIP. The regulations affected by this format change have all been previously submitted by the Commonwealth of Kentucky pursuant to revisions to the Jefferson County SIP and either previously approved by EPA or proposed for approval in this Federal Register. This format revision will primarily affect the “Identification of plan” section of CFR part 52, as well as the format of the SIP materials that will be available for public inspection at the Office of the Federal Register (OFR), the Air and Radiation Docket and Information Center located in Waterside Mall, Washington, D.C., and the Regional Office. The sections of 40 CFR part 52 pertaining to provisions promulgated by EPA or State-submitted materials that are not subject to IBR remain unchanged.

DATES: To be considered, comments must be received by July 23, 2001.

ADDRESSES: Written comments on this proposed action should be addressed to Allison Humphris, Regulatory Planning Section, Air Planning Branch, U.S. Environmental Protection Agency Region 4, 61 Forsyth Street, SW, Atlanta, Georgia 30303-8960.

Copies of documents relative to this action are available for public inspection during normal business hours at the following locations:

U.S. Environmental Protection Agency; Region 4 Air Planning Branch; 61 Forsyth Street, SW; Atlanta, Georgia 30303-8960

Commonwealth of Kentucky, Natural Resources and Environmental Protection Cabinet; Division for Air Quality; 803 Schenkel Lane; Frankfort, Kentucky 40601-1403

Air Pollution Control District of Jefferson County; 850 Barrett Avenue; Louisville, Kentucky 40204

The interested persons wanting to examine these documents should make an appointment with the appropriate office at least 24 hours before the visiting day and reference files KY-103, KY-107, KY-110, KY-114, KY-115, KY-122. The Region 4 office may have additional background documents not available at the other locations.

FOR FURTHER INFORMATION CONTACT: Allison Humphris, Regulatory Planning Section, Air Planning Branch, U.S. Environmental Protection Agency Region 4, 61 Forsyth Street, SW, Atlanta, Georgia 30303-8960, 404/562-9030, (humphris.allison@epa.gov).

SUPPLEMENTARY INFORMATION: The supplemental information is organized in the following order.

I. Rule Revisions Being Proposed for Approval By EPA in This Action.

A. February 3, 1998 and September 22, 1998 Submittals

B. February 11, 1999 Submittal

C. May 21, 1999 Submittal

D. July 20, 1999 Submittal

E. September 22, 2000 Submittal

II. Revised IBR Format Being Proposed for Approval By EPA in This Action.

A. Background

B. Content of Revised IBR Document

C. Revised Format of the “Identification of plan” Sections in Each Subpart

D. Enforceability and Legal Effect

III. Administrative Requirements

I. Rule Revisions Being Proposed for Approval By EPA in This Action

The Commonwealth of Kentucky, through the Kentucky Natural Resources and Environmental Protection Cabinet, submitted to EPA revisions to the Jefferson County portion of the SIP on February 3, 1998, September 22, 1998, February 11, 1999, May 21, 1999, July 20, 1999 and September 22, 2000. The revisions include updates and modifications of the Jefferson County regulations. The recodification renumbers Jefferson County rule sections to make the SIP less complex and corrects typographical errors, capitalization, spelling, and punctuation.

A. February 3, 1998 and September 22, 1998 Submittals

On February 3, 1998 and September 22, 1999, the Commonwealth of Kentucky submitted revisions to the Jefferson County portion of the Kentucky SIP. EPA is proposing to approve the following changes to the rules listed below which also include a recodification of the rules.

Regulation 1.02 Definitions—This revision adds definitions of the terms: “Act;” “Cabinet;” “Department;” “Division;” “Federally enforceable District origin operating permit;” “Fugitive emissions;” “Generally Achievable Control Technology;” “Hazardous air pollutant;” “Maximum Achievable Control Technology;” “Potential Hazardous Emission;” “Reasonable available control technology;” “Toxic Air Pollutant.” The revision amends the following definitions “Major Source;” “Organic Material;'and “Potential to emit.” The revision also amends the definition of “Volatile organic compounds” to include additional exempted organic compounds to be consistent with the federal definition. The revised definition states that the following organic compounds have been determined to have negligible photochemical reactivity: Methane; ethane; methylene chloride (dichloromethane); 1,1,1-trichloroethane (methyl chloroform); 1,1,2-trichloro-1,2,2-trifluoroethane (CFC-113); trichlorofluoromethane (CFC-11); dichlorodifluoromethane (CFC-12); chlorodifluoromethane (HCFC-22); trifluoromethane (HFC-23); 1,2-dichloro-1,1,2,2-tetrafluoroethane (CFC-114); chloropentafluoroethane (CFC-115); 1,1,1-trifluoro 2,2-dichloroethane (HCFC-123); 1,1,1,2-tetrafluoroethane (HFC-134a); 1,1-dichloro-1-fluoroethane (HCFC-141b); 1-chloro-1,1-difluoroethane (HCFC-142b); 2-chloro-1,1,1,2-tetrafluoroethane (HCFC-124); pentafluoroethane (HFC-125); 1,1,2,2-tetrafluoroethane (HFC-134); 1,1,1-trifluoroethane (HFC-143a); 1,1-difluoroethane (HFC-152a); parachlorobenzotrifluoride (PCBTF); cyclic, branched, or linear completely methylated siloxanes; acetone; perchloroethylene (tetrachloroethylene); 3,3-dichloro-1,1,1,2,2-pentafluoropropane (HCFC-225ca); 1,3-dichloro-1,1,2,2,3-pentafluoropropane (HCFC-225cb); 1,1,1,2,3,4,4,5,5,5-decafluoropentane (HFC 43-10mee); difluoromethane (HFC-32); ethylfluoride (HFC-161); 1,1,1,3,3,3-hexafluoropropane (HFC-236fa); 1,1,2,2,3-pentafluoropropane (HFC-245ca); 1,1,2,3,3-pentafluoropropane (HFC-245ea); 1,1,1,2,3-pentafluoropropane (HFC-245eb); 1,1,1,3,3-pentafluoropropane (HFC-245fa); 1,1,1,2,3,3-hexafluoropropane (HFC-236ea); 1,1,1,3,3-pentafluorobutane (HFC-365mfc); chlorofluoromethane (HCFC-31); 1-chloro-1-fluoroethane (HCFC-151a); 1,2-dichloro-1,1,2-trifluoroethane (HCFC-123a); 1,1,1,2,2,3,3,4,4-nonafluoro-4-methoxy-butane (C4F9OCH3); 2-(difluoromethoxymethyl)-1,1,1,2,3,3,3-heptafluoropropane ((CF3)2CFCF2OCH3); 1-ethoxy-1,1,2,2,3,3,4,4,4-nonafluorobutane (C4F9OC2H5); 2-(ethoxydifluoromethyl)-1,1,1,2,3,3,3-heptafluoropropane ((CF3)2CFCF2OC2H5); and perfluorocarbon compounds which fall into these classes: (1) Cyclic, branched, or linear, completely fluorinated alkanes, (2) Cyclic, branched, or linear, completely fluorinated ethers with no unsaturations, (3) Cyclic, branched, or linear, completely fluorinated tertiary amines with no unsaturations, and (4) Sulfur containing perfluorocarbons with no unsaturations and with sulfur bonds only to carbon and fluorine. The revision also makes various word structure changes to add clarity.

Regulation 1.04 Performance Tests—This revision identifies the appropriate citations for the federal performance standards and test methods that Jefferson County must satisfy which include 40 CFR part 60, 40 CFR part 61, 40 CFR part 63, 40 CFR part 61, appendix B, and 40 CFR part 63, appendix A. The revision includes the requirement for a facility to notify the Air Pollution Control District of Jefferson County (District) at least 25 working days prior to the projected starting date and 10 working days prior to the scheduled starting date for a performance test. The revision also adds language that allows the District to waive the advance notice requirement if certification of a continuous emission monitoring system is needed, and grants the District authority to waive the following in the event of an emergency or malfunction: notice of intent to test, the pre-test survey and conference, and the prior notice of the scheduled starting date for the performance test. The revision also makes various sentence and word structure changes to add clarity.

B. February 11, 1999 Submittal

On February 11, 1999, the Commonwealth of Kentucky submitted miscellaneous revisions to the Jefferson County portion of the Kentucky SIP. EPA is proposing to approve the following changes to the rules listed below which also include a recodification of the rules.

Regulation 1.03 Abbreviations and Acronyms—This revision makes various revisions to distinguish between abbreviations and acronyms.

Regulation 1.07 Emissions During Startups, Shutdowns, Malfunctions and Emergencies—This revision adds the definition of “Emergency.” The District regulation will not take precedence over federal rule requirements, thus an exceedance during startups, shutdowns, malfunctions, or emergencies would be a violation. The rule states that a company must meet the revised applicable reporting requirements prescribed in this regulation to meet the requirements of an affirmative defense. If there is an exceedance episode and the reporting requirements are met but the federal regulation is violated, compliance with the District regulation can be used as an affirmative defense if legal action is taken against the company as a result of the violation.

Regulation 1.08 Administrative Procedures—This revision establishes the procedures for the adoption or amendment of a regulation in order to meet statutory requirements;

Regulation 1.09 Prohibition of Air Pollution—This revision adds language to strengthen the District's regulatory enforcement against harmful emission discharges and nuisances of the criteria pollutants that can potentially endanger health and safety.

Regulation 1.11 Control of Open Burning—This revision allows limited open burning for debris removal necessitated by acts of God and general agricultural burning. It replaces Regulations 6.06 Control of Open Burning and Regulation 7.05 Control of Open Burning.

Regulation 1.14 Control of Fugitive Particulate Emissions—This revision requires District approval of a fugitive dust plan for unpaved roads and grants the District authority to request a traffic count on unpaved roads to determine if preventative measures are necessary. The revision adds the requirement that a person planning to take part in open burning activities must notify the District in writing prior to operation and shall not disturb more total surface area than one acre of land in the aggregate unless fugitive dust abatement and preventative measures are implemented. The revision also adds the requirement for District notification of any demolition, wrecking or moving of structures and replaces Regulation 6.05 Control of Fugitive Particulate Emissions and Regulation 7.04 Control of Fugitive Particulate Emissions.

Regulation 2.02 Air Pollution Regulation Requirements and Exemptions—The amendments to this regulation exempt specific emission units from permit requirements which comprise the insignificant list of the Title V operating permit program. Examples of the added exempted emission units include, but are not limited to: facilities using only peanut oil, sunflower oil, cottenseed oil, or canola oil; passive soil or ground water contamination remediation projects; indoor dust or particulate collectors; cold solvent parts cleaners that are equipped with a functional secondary reservoir; portable diesel or gasoline storage tanks with a maximum capacity of less than 500 gallons; storage vessels for VOCs with a maximum capacity of 250 gallons or less; diesel or fuel oil storage tanks not used for distribution or sale that have less than two times the capacity of the vessel in annual fluid turnoverall; pressurized VOC storage vessels; and Research and Development facilities. For a complete list of exempted facilities refer to Regulation 2.02.

Regulation 2.06 Permit Requirements—Other Sources—The revision makes minor word structure changes to add clarity.

Regulation 2.07 Public Notification for Title V, PSD, and Offset Permits; SIP Revisions; and Use of Emission Reduction Credits—The amendments to Regulation 2.07 establish the requirements for the District to provide public notice, opportunity for public comment, review by EPA and affected states, and a public hearing on Title V permit actions and the issuance of permits; and these revisions are pursuant compliance of CAA section 502(b)(6) and 40 CFR 70.7-8.

Regulation 2.10 Stack Height Considerations—The revision amends the definitions of “Dispersion technique,” “Excessive concentration,” “Good engineering practice,” and “Stack in existence” to be consistent with Federal definitions. The revision also adds the definitions of “Emission limitation or emission standard,” “Nearby,” and “Stack.” The revision amends the procedures for which stack heights shall be considered in determining compliance of an affected source. The revision makes minor word and sentence structure changes to add clarity and consistency with EPA definitions.

Regulation 3.04 Ambient Air Quality Standards—This amendment implements the 0.12 part per million federal ozone standard in accordance with 40 CFR part 50, appendix H. It also revises Particulate Matter (PM) to define PM10 for both primary and secondary standards in accordance with 40 CFR part 50, appendix K.

Regulation 4.07 Episode Reporting Requirements—The revision makes minor word structure changes to add clarity.

Regulation 6.01 General Provisions—The revisions establish the general provisions for the application of standards of performance for existing affected facilities and the requirement for performance tests according to Regulation 1.04 Performance Tests.

Regulation 6.02 Emission Monitoring for Existing Sources—This revision adds “petroleum refinery” to the list of source categories that are subject to continuous emission monitoring and removes “fluid bed catalytic cracking unit catalyst regenerators” because there are no operating refineries with a fluid bed catalytic cracking unit catalyst regenerator in the District. This revision also adds the requirement for additional monitoring equipment for petroleum refineries and makes minor sentence and word structure changes to add clarity.

Regulation 6.17 Standard of Performance for Existing Automobile and Truck Surface Coating Operations—This revision adds the definition of “Truck” to clarify the meaning used in the regulation.

Regulation 7.25 Standard of Performance for New Sources Using Volatile Organic Compounds—This revision amends the definitions of “Affected facility,” “Potential emissions,” and “Volatile organic compound.” The revision requires affected facilities to be equipped with and utilize best available control technology (BACT) as determined at the time of the District review of the construction permit and makes minor word and sentence structure changes to add clarity.

This action proposes to remove the Hazardous Air Pollutant Standards (HAPS) listed below from the federally-approved SIP because these regulations were incorrectly approved into the SIP. EPA enforces HAPS pursuant to 40 CFR parts 61 and 63, therefore the rules should not be included in the federally-approved SIP.

Regulation 5.01 Standards for Hazardous Air Pollutants—General Provisions,

Regulation 5.02 Definitions,

Regulation 5.03 Potential Hazardous Emissions,

Regulation 5.04 Emission Standards for Asbestos,

Regulation 5.05 Emission Standard for Beryllium,

Regulation 5.06 Emission Standard for Mercury,

Regulation 5.07 Emission Standard for Beryllium Rocket Motor Firing, and

Regulation 5.08 Emission Standards for Vinyl Chloride.

Jefferson County requested EPA to remove the following regulations. Therefore, this action proposes to remove these regulations from the federally-approved SIP.

Regulation 2.08 Emission Fees, Permit Fees, and Permit Renewal Procedures—The regulation was incorrectly approved into the SIP. EPA has determined that the Agency does not enforce the collection of emission and permit fees, therefore the rule should not have been approved into the SIP.

Regulation 6.03 Control of Nuisances—The regulation was incorrectly approved into the SIP. EPA has determined that the Agency does not enforce the control of nuisances, therefore the rule should not have been approved into the SIP. The District has moved the requirements of this regulation to Regulation 1.12 Control of Nuisances and subsequently, EPA is proposing to remove Regulation 6.03 from the federally-approved SIP. Regulation 1.12 is not included in the federally-approved SIP because it is not related to the District's compliance with the National Ambient Air Quality Standards (NAAQS).

Regulation 6.04 Control of Objectionable Odors in the Ambient Air—The regulation was incorrectly approved into the SIP. EPA has determined that the Agency does not enforce the control of odors, therefore the rule should not have been approved into the SIP. The District has moved the requirements of this regulation to Regulation 1.13 Control of Objectionable Odors in the Ambient Air and subsequently, EPA is proposing to remove Regulation 6.04 from the federally-approved SIP. Regulation 1.13 is not included in the federally-approved SIP because it is not related to the District's compliance with the NAAQS.

Regulation 6.05 Control of Fugitive Particulate Emissions—The District has moved the requirements of this regulation to Regulation 1.14 Control of Fugitive Particulate Emissions and subsequently, EPA is proposing to remove this regulation from the federally-approved SIP.

Regulation 6.06 Control of Open Burning—The District has moved the requirements of this regulation to Regulation 1.11 Control of Open Burning and subsequently, EPA is proposing to remove Regulation 6.06 from the federally-approved SIP.

Regulation 6.23 Standard of Performance for Existing Dry Cleaning Facilities—The District has removed the requirements of this regulation from the SIP pursuant to the publication of a Federal Register notice on February 7, 1996, (61 FR 4588) in which EPA adds perchloroethylene, also known as tetrachloroethylene, to the list of compounds excluded from the definition of VOC. The effective date of this rule was March 6, 1996. Perchloroethylene continues to be regulated as a hazardous air pollutant (HAP) under section 112 of the CAA. Therefore EPA is proposing to remove Regulation 6.23 from the federally-approved SIP.

Regulation 7.04 Control of Fugitive Particulate Emissions—The District has moved the requirements of this regulation to Regulation 1.14 Control of Fugitive Particulate Emissions and subsequently, EPA is proposing to remove Regulation 7.04 from the federally-approved SIP.

Regulation 7.05 Control of Open Burning—The District has moved the requirements of this regulation to Regulation 1.11 Control of Open Burning and subsequently, EPA is proposing to remove Regulation 7.05 from the federally-approved SIP.

C. May 21, 1999 Submittal

On May 21, 1999, the Commonwealth of Kentucky submitted the following revisions to the Jefferson County portion of the Kentucky SIP. EPA is proposing to approve the following changes to the rules listed below which also include a recodification of the rules.

Regulation 1.01 General Application of Regulations and Standards—This revision makes various sentence and word structure changes to add clarity.

Regulation 1.06 Source Self-Monitoring and Reporting—This amendment requires a formal certification by a prescribed “responsible official” of the required reporting information submitted to the District pursuant to this regulation and makes various sentence and word structure changes to add clarity.

Regulation 2.03 Permit Requirements—Non-Title V Construction and Operating Permits and Demolition/Renovation Permits—This revision adds the requirement for an asbestos demolition or renovation abatement project permit to be issued by Jefferson County before a facility is allowed to proceed with destruction. This revision grants the District the option of choosing whether or not to hold a hearing and allows an aggrieved person to request a hearing for a non-Title V permit proposal (e.g. construction of new equipment, operation of facilities, and demolition and renovation of asbestos containing materials).

Regulation 6.09 Standards of Performance for Existing Process Operations—This revision adds the definition “Reasonably Available Control Technology.” The revision rectifies the date gap between an existing source (July 2, 1975) and a new source (September 1, 1976). The amendment also adds the opacity standard and mass emission standard and makes language simplifications and technical corrections to add clarity.

Regulation 6.10 Standard of Performance for Existing Process Gas Streams—This amendment includes the performance tests required to be used to demonstrate compliance and the requirement that performance tests shall be conducted according to 40 CFR part 60 Reference Method 11 for hydrogen sulfide and Reference Method 6 for sulfur dioxide. The revision also makes various sentence and word structure changes to add clarity.

Regulation 6.14 Standard of Performance for Selected Existing Petroleum Refining Processes and Equipment—This revision makes various word structure changes to add clarity.

Regulation 6.20 Standard of Performance for Existing Bulk Gasoline Plants—This amendment adds mandatory provisions to permit loading of a tank truck or trailer at bulk gasoline plants in Jefferson County which include the following: a vapor balance system, a pressure tap, an emission monitor during loading operations, and a valid Kentucky pressure-vacuum test sticker. The revision also makes various word structure changes to add clarity.

Regulation 6.21 Standard of Performance for Existing Gasoline Loading Facilities at Bulk Terminals—This amendment adds mandatory provisions to permit loading of a tank truck or trailer at bulk gasoline terminals in Jefferson County which include the following: a vapor balance system, a pressure tap, an emission monitor during loading operations, and a valid Kentucky pressure-vacuum test sticker. The revision adds test procedure requirements as defined in EPA's documents “Control of Hydrocarbons from Tank Truck Gasoline Loading Terminals” and “Control of Volatile Organic Compound Leaks from Gasoline Tank Trucks and Vapor Collection Systems.” The revision also makes various word structure changes to add clarity.

Regulation 6.22 Standard of Performance for Existing Volatile Organic Materials Loading Facilities—This revision makes various sentence and word structure changes to add clarity.

Regulation 6.24 Standard of Performance for Existing Sources Using Organic Materials—This revision makes various sentence and word structure changes to add clarity.

Regulation 6.31 Standard of Performance for Existing Miscellaneous Metal Parts and Products Surface-Coating Operations—The amendments to the rule replaces the 85 percent efficiency requirement and bases the new standard on mass of VOC per unit volume of coating applied for various coating types. The revision also adds the definition “Extreme performance coating” and the revision makes various sentence and word structure changes to add clarity.

Regulation 6.39 Standard of Performance for Equipment Leaks of Volatile Organic Compounds in Existing Synthetic Organic Chemical and Polymer Manufacturing Plants—This revision adds the exemption of facilities that are also subject to 40 CFR part 63, subpart H to eliminate duplication of requirements and makes various sentence and word structure changes to add clarity.

Regulation 6.42 Reasonably Available Control Technology Requirements for Major Volatile Organic Compound-and Nitrogen Oxides-Emitting Facilities—This revision adds the requirement that District-approved site-specific NOX RACT plans pursuant to this regulation must be submitted to EPA as a site-specific SIP revision. The revision includes the reference to pertinent District and federal regulations intended to establish RACT requirements for VOC emitting sources and makes various sentence and word structure changes to add clarity.

Regulation 6.44 Standards of Performance for Existing Commercial Motor Vehicle and Mobile Equipment Refinishing Operations—This revision amends the definition of “Group I vehicles and equipment” to include camper shells, pick-up truck toppers, and light and medium duty trailers that require special color-matched coatings and adds the definitions of “Large-sized truck” and “Small-sized truck.” The revision establishes the VOC content of surface cleaners and the proper usage and dispensing techniques. The amendment revises the equipment standards and operation requirements for all coating operators that use more than 25 gallons of coatings per year to include proper ventilation of coating operation areas. The revision also makes various sentence and word structure changes to add clarity.

Regulation 6.46 Standards of Performance for Existing Ferroalloy and Calcium Carbide Production Facilities—This revision adds a new regulation which establishes the provisions for the control of emissions from existing ferroalloy and calcium carbide production facilities.

Regulation 7.06 Standards of Performance for New Indirect Heat Exchangers—This revision makes various sentence and word structure changes to add clarity.

Regulation 7.07 Standard of Performance for New Incinerators—This amendment clarifies that this regulation does not apply to any medical waste incinerator, existing or new, as defined in Jefferson County local Regulations 6.41 or 7.78 and any new municipal solid waste incinerator as defined in Regulation 7.76. The amendment includes a provision that no owner or operator of an affected facility up to 499 lbs/hr capacity shall cause any gases to be discharged into the atmosphere which contain particulate matter in excess of 0.45 g/dscm (0.20 gr/dscf) corrected to 12% carbon dioxide excluding the contribution of carbon dioxide from auxiliary fuel. The revision also makes various sentence and word structure changes to add clarity.

Regulation 7.08 Standards of Performance for New Process Operations—This revision rectifies the date gap between an existing source (July 2, 1975) and a new source (September 1, 1976) and makes language simplifications and technical corrections to add clarity.

Regulation 7.09 Standards of Performance for New Process Gas Streams—This revision amends the standard for hydrogen sulfide to prohibit the combustion of a process gas stream containing hydrogen sulfide with a concentration greater than 10 grains per 100 dscf at zero percent excess oxygen unless the resulting emission of sulfur dioxide is less than 40 tons per year and a modeling demonstration is made showing attainment and maintenance of the NAAQS for sulfur dioxide. The existing standard for hydrogen sulfide is based on preliminary inlet hydrogen sulfide concentrations. This revision amends the rule to base the standard on the actual outlet emission concentration of sulfur dioxide and maintaining compliance. The revision also allows a higher concentration of sulfur dioxide emissions if the total sulfur dioxide emission is less than 40 tons per year and a modeling demonstration is made that shows attainment and maintenance of the sulfur dioxide NAAQS. The revision also makes various sentence and word structure changes to add clarity.

Regulation 7.15 Standards of Performance for Gasoline Transfer To New Service Station Storage Tanks (Stage I Vapor Recovery)—This revision adds the definition of “Submerged fill pipe” and amends the definition of “Affected facilities” to specify gasoline storage tanks at service stations with a capacity greater than 250 gallons each. The revision includes additional provisions to require a vapor return hose connection between the tank of the delivery truck and the storage tank receiving the product and a one minute time restriction to open the truck tank hatch for visual inspection. It also requires that all above ground lines must be equipped with dry breaks to prevent spillage and all other lines must be gravity drained for no spillage and adds the requirement for operation and maintenance of applicable equipment with no defects. The revision includes the requirement that affected facilities must obtain a construction or reconstruction permit before commencing a project and must notify Jefferson County of the replacement, addition, or change of any required equipment except for the routine replacement of gaskets. The revision also makes various sentence and word structure changes to add clarity.

Regulation 7.20 Standard of Performance for New Gasoline Loading Facilities at Bulk Plants—This amendment includes mandatory provisions to permit loading of a tank truck or trailer at affected facilities in Jefferson County which include the following: a vapor balance system, a pressure tap, an emission monitor during loading operations, and a valid Kentucky pressure-vacuum test sticker. The revision also makes various word structure changes to add clarity.

Regulation 7.22 Standard of Performance for New Volatile Organic Materials Loading Facilities—This revision adds a new regulation which provides for the control of emissions from new volatile organic materials loading facilities and applies to facilities that load more than 200 gallons per day of volatile organic materials. It establishes the provisions for the control of volatile organic materials. Gasoline loading facilities are exempt from this regulation but are subject to the requirements of Regulation 6.21 and Regulation 7.20.

Regulation 7.51 Standard of Performance for New Liquid Waste Incinerators—This revision adds the definition “Halogenated liquid wastes” and establishes the VOC standard, equipment standards and expands the recordkeeping requirements to include provisions for performance tests. The amendment includes mandatory provisions to permit loading of a tank truck or trailer at bulk gasoline plants in Jefferson County which include the following: a vapor balance system, a pressure tap, an emission monitor during loading operations, and a valid Kentucky pressure-vacuum test sticker. The revision also makes various word structure changes to add clarity.

Regulation 7.55 Standard of Performance for New Insulation of Magnet Wire—The revision makes various sentence and word structure changes to add clarity.

Regulation 7.59 Standard of Performance for New Miscellaneous Metal Parts and Products Surface Coating Operations—This revision amends and clarifies the VOC standards for surface coating operations and adds the definition of “Extreme performance coating.” The revision also makes various sentence and word structure changes to add clarity.

Regulation 7.77 Standards of Performance for New Blast Furnace Casthouses—This revision adds a new regulation that provides for the control of emissions from new blast furnace casthouses, establishes the standard for particulate matter and references test methods and procedures in 40 CFR part 60, appendix A to be used in compliance with the standards.

The Commonwealth of Kentucky also submitted amendments to Regulation 2.04 Construction or Modification of Major Sources in or Impacting upon Non-Attainment Areas (Emission Offset Requirements) of the Jefferson County portion of the Kentucky SIP. EPA is proposing to partially approve this revision of Regulation 2.04. The regulation as revised establishes applicability and requirements for the construction of new stationary sources and major modifications located within, or impacting, areas designated as nonattainment. The revision amends the definition of “Major modification” to be consistent with CAA and EPA requirements, and adds the following definitions to this regulation: “Major stationary source,” “Net emission increase,” “Potential to emit,” “Stationary source,” “Building, structure, facility or installation,” “Emission unit,” “Construction,” “Commence,” “Necessary preconstruction approvals or permits,” “Allowable emissions,” “Federally enforceable,” “Secondary emissions,” “Actual emissions,” “Fugitive emissions,” “Significant,” “Lowest Achievable Emission Rate,” “Reasonable further progress,” “Begin actual construction,” “Class I area,” “Adverse impact on visibility,” “State Implementation Plan,” “Mandatory Class I federal area,” “Natural conditions,” and “Visibility impairment.” The revision establishes procedures for the initial screening analysis and determination of applicable requirements. The revision also establishes applicable requirements for new major sources or major modifications located in designated attainment or unclassifiable areas that may cause significant impact on the area's attainment of the NAAQS. Finally, the revision establishes the baseline for determining credit for emission reductions or offsets. EPA has determined that all of Regulation 2.04 as amended is approvable with the exception of subsection 3.2. The first sentence in subsection 3.2 requires the District to determine if a major stationary source or major modification is being constructed in a designated non-attainment area. The second and final sentence states that the applicability of the requirement to obtain offsets will be determined based on the projected attainment status of the area as of the new source start-up date. EPA cannot approve subsection 3.2 because this final sentence conflicts with existing EPA policy, which requires that the applicability of the offset requirement be based on the actual attainment status of the area as of the construction permit issuance date. EPA is therefore proposing to take no action on this subsection. Subsection 3.2 constitutes a completely separable portion of Regulation 2.04, since subsection 1.1 of this regulation effectively requires a determination of whether a source or major modification is being constructed in a non-attainment area for purposes of establishing applicability. Thus, the omission of subsection 3.2 does not affect the completeness or approvability of Regulation 2.04.

Jefferson County requested the following regulations to be removed from the SIP and supplemented the May 21, 1999, submittal with a negative declaration to guarantee there are no existing sources located in Jefferson County that are subject to the following rules. This action proposes to remove the following regulations from the federally-approved SIP.

Regulation 6.11 Standards of Performance for Existing Iron and Steel Plants,

Regulation 6.25 Standard of Performance for Existing Sanitary Landfills,

Regulation 7.10 Standards of Performance for New Steel Plants Using Basic Oxygen Process Furnaces,

Regulation 7.13 Standards of Performance for New Petroleum Refineries,

Regulation 7.16 Standard of Performance for New Large Appliance Surface Coating Operations,

Regulation 7.17 Standard of Performance for New Automobile and Light Duty Truck Surface Coating Operations,

Regulation 7.19 Standard of Performance for New Metal Furniture Surface Coating Operations,

Regulation 7.21 Standards of Performance for New Gasoline Loading Facilities at Bulk Terminals,

Regulation 7.24 Standards of Performance for New General Surface Coating Operations,

Regulation 7.26 Standard of Performance for New Sanitary Landfills,

Regulation 7.27 Standards of Performance for New Portland Cement Plants,

Regulation 7.28 Standard of Performance for New Nitric Acid Plants,

Regulation 7.29 Standard of Performance for New Sulfuric Acid Plants,

Regulation 7.30 Standard of Performance for New Secondary Lead Smelters,

Regulation 7.31 Standards of Performance for New Secondary Brass and Bronze Ingot Production Plants,

Regulation 7.32 Standard of Performance for New Sewage Treatment Plants,

Regulation 7.33 Standard of Performance for New Kraft Paper Mills,

Regulation 7.37 Standard of Performance for New Primary Copper Smelters,

Regulation 7.38 Standard of Performance for New Primary Zinc Smelters,

Regulation 7.39 Standard of Performance for New Primary Lead Smelters,

Regulation 7.40 Standard of Performance for New Primary Aluminum Reduction Plants,

Regulation 7.41 Standard of Performance for New Wet Process Phosphoric Acid Plants,

Regulation 7.42 Standard of Performance for New Superphosphoric Acid Plants,

Regulation 7.43 Standard of Performance for New Diammonium Phosphate Plants,

Regulation 7.44 Standard of Performance for New Triple Superphosphate Plants,

Regulation 7.45 Standard of Performance for New Granular Triple Superphosphate Storage Facilities,

Regulation 7.46 Standard of Performance for New Coal Preparation Plants,

Regulation 7.47 Standard of Performance for New Ferroalloy Production Plants,

Regulation 7.48 Standard of Performance for Steel Plants and Foundries Using New Electric Arc Furnaces,

Regulation 7.49 Standard of Performance for New Grain Elevators,

Regulation 7.50 Standard of Performance for New Lime Manufacturing Plants,

Regulation 7.53 Standard of Performance for New Can Surface Coating Operations,

Regulation 7.54 Standard of Performance for New Coil Surface Coating Operations,

Regulation 7.61 Standard of Performance for New Pneumatic Rubber Tire Manufacturing Plants,

Regulation 7.62 Standard of Performance for Stationary Gas Turbine,

Regulation 7.63 Standard of Performance for New Electric Utility Steam Generating Units, and

Regulation 7.64 Standard of Performance for New Ammonium Sulfate Manufacturing Units.

Jefferson County requested that EPA remove Regulation 7.02 Control of Nuisances from the federally-approved SIP. This regulation was incorrectly approved into the SIP. EPA has determined that the Agency does not enforce the control of nuisances, therefore the rule should not have been approved into the SIP. The District has moved the requirements of this regulation to Regulation 1.12 Control of Nuisances and subsequently, EPA is proposing to remove Regulation 7.02 Control of Nuisances from the federally-approved SIP. Regulation 1.12 Control of Nuisances is not approved into the federally-approved SIP because it is not related to the District's compliance with the NAAQS.

Jefferson County requested that EPA remove Regulation 7.23 Standard of Performance for New Perchloroethylene Dry Cleaning Systems from the federally-approved SIP. This revision is pursuant to the publication of a Federal Register document on February 7, 1996, (61 FR 4588) in which EPA adds perchloroethylene, also known as tetrachloroethylene, to the list of compounds excluded from the definition of VOC. The effective date of this rule was March 6, 1996. Perchloroethylene continues to be regulated as a hazardous air pollutant (HAP) under section 112 of the CAA. This action proposes to remove Regulation 7.23 Standard of Performance for New Perchloroethylene Dry Cleaning Systems from the federally-approved SIP.

D. July 20, 1999 Submittal

On July 20, 1999, the Commonwealth of Kentucky submitted the following revisions to the Jefferson County portion of the Kentucky SIP. EPA is proposing to approve these changes to the rules listed below which also include a recodification of the rules.

Regulation 2.11 Air Quality Model Usage—This amendment removes all sections except Section 1 which adds a reference to 40 CFR part 51, appendix W to Guideline on Air Quality Models for guidance regarding the use of air quality modeling to support the use of emission reduction credits; and Jefferson County maintains authority to review and approve, on a case-by-case basis, the use of alternative or modified models performed for non-regulatory programs.

Regulation 6.48 Standard of Performance for Existing Bakery Oven Operations—This amendment adds a new rule to establish the procedure for calculating VOC emissions for existing bakery oven operations, defines applicable terms, includes the method for calculating the VOC emissions from bakery ovens, and includes record keeping requirements. Sources with a daily production rate of less than one ton of yeast-leavened bread are exempt from this regulation.

The following regulation revisions make administrative changes that do not alter the sense, meaning, or effect of the rule. Examples of these administrative changes include recodification, rewording of headnotes, changing capitalization, spelling, punctuation, and typographical errors. The administrative revisions to the following regulations make various sentence and word structure changes to add clarity.

Regulation 1.05 Compliance with Emission Standards and Maintenance Requirements,

Regulation 1.10 Circumvention,

Regulation 2.01 General Application,

Regulation 2.09 Causes for Permit Suspension,

Regulation 3.01 Purpose of Standards and Expression of Non-Degradation Intention,

Regulation 3.02 Applicability of Ambient Air Quality Standards,

Regulation 3.03 Definitions,

Regulation 3.05 Methods of Measurement,

Regulation 4.01 General Provisions for Emergency Episodes,

Regulation 4.02 Episode Criteria,

Regulation 4.03 General Abatement Requirements,

Regulation 4.04 Particulate and Sulfur Dioxide Reduction Requirements,

Regulation 4.05 Hydrocarbon and Nitrogen Oxides Reduction Requirements,

Regulation 4.06 Carbon Monoxide Reduction Requirements,

Regulation 6.07 Standards of Performance for Existing Indirect Heat Exchangers,

Regulation 6.08 Standard of Performance for Existing Incinerators,

Regulation 6.12 Standard of Performance for Existing Asphalt Paving Operations,

Regulation 6.13 Standard of Performance for Existing Storage Vessels for Volatile Organic Compounds,

Regulation 6.16 Standard of Performance for Existing Large Appliance Surface Coating Operations,

Regulation 6.18 Standards of Performance for Existing Solvent Metal Cleaning Equipment,

Regulation 6.19 Standard of Performance for Existing Metal Furniture Surface Coating Operations,

Regulation 6.26 Standards of Performance for Existing Volatile Organic Compound Water Separators,

Regulation 6.27 Standards of Performance for Existing Liquid Waste Incinerators,

Regulation 6.28 Standard of Performance for Existing Hot Air Aluminum Atomization Processes,

Regulation 6.29 Standard of Performance for Existing Graphic Arts Facilities Using Rotogravure and Flexography,

Regulation 6.30 Standard of Performance Existing Factory Surface Coating Operations of Flat Wood Paneling,

Regulation 6.32 Standard of Performance for Leaks from Existing Petroleum Refinery Equipment,

Regulation 6.33 Standard of Performance for Existing Synthesized Pharmaceutical Product Manufacturing Operations,

Regulation 6.34 Standard of Performance for Existing Pneumatic Rubber Tire Manufacturing Plants,

Regulation 6.35 Standard of Performance for Existing Fabric, Vinyl, and Paper Surface Coating Operations,

Regulation 6.38 Standard of Performance for Existing Air Oxidation Processes in Synthetic Organic Chemical Manufacturing Industries,

Regulation 6.40 Standards of Performance for Gasoline Transfer to Motor Vehicles (Stage II Vapor Recovery and Control),

Regulation 7.11 Standard of Performance for New Asphalt Paving Operations,

Regulation 7.12 Standard of Performance for New Storage Vessels for Volatile Organic Compounds,

Regulation 7.14 Standard of Performance for Selected New Petroleum Refining Processes and Equipment,

Regulation 7.18 Standards of Performance for New Solvent Metal Cleaning Equipment,

Regulation 7.34 Standard of Performance for New Sulfite Pulp Mills,

Regulation 7.35 Standard of Performance for New Ethylene Producing Plants,

Regulation 7.36 Standard of Performance for New Volatile Organic Compound Water Separators,

Regulation 7.52 Standard of Performance for New Fabric, Vinyl, and Paper Surface Coating Operations,

Regulation 7.56 Standard of Performance for Leaks from New Petroleum Refinery Equipment,

Regulation 7.57 Standard of Performance for New Graphic Arts Facilities Using Rotogravure and Flexography,

Regulation 7.58 Standard of Performance for New Factory Surface Coating Operations of Flat Wood Paneling, and

Regulation 7.60 Standard of Performance for New Synthesized Pharmaceutical Product Manufacturing Operations.

E. September 22, 2000 Submittal

On September 22, 2000, the Commonwealth of Kentucky submitted the following revisions to the Jefferson County portion of the Kentucky SIP. EPA is proposing to approve these changes to the rules listed below.

Regulation 7.01 General Provisions—This revision makes various sentence and word structure changes to add clarity to this regulation regarding standards of performance for new affected facilities. The revision also amends this regulation to require subject sources to comply with Regulation 6.16 Standard of Performance for Existing Large Appliance Surface Coating Operations and Regulation 6.17 Standard of Performance for Existing Automobile and Truck Surface Coating Operations on the basis of a calendar-day averaging period. This amendment ensures that the removal of Regulation 7.16 Standard of Performance for New Large Appliance Surface Coating Operations and Regulation 7.17 Standard of Performance for New Automobile and Light Duty Truck Surface from the SIP, as requested by Jefferson County on May 21, 1999, will not result in a relaxation of the compliance requirements for these sources. The revision also requires subject sources to demonstrate compliance with Regulation 6.17 using capture efficiency as measured in accordance with Regulation 1.05 Compliance with Emission Standards and Maintenance Requirements.

Regulation 7.81 Standard of Performance for New or Modified Bakery Oven Operations—This revision adds a new regulation that provides for the quantification and control of VOC emissions from new or modified bakery oven operations that exceed 150 pounds of VOC emissions per day. The regulation applies to bakeries that produce bread, rolls, buns, and similar products, but not to those that produce non-yeast-leavened products. The regulation also establishes the standards and methods for control of VOC emissions, testing requirements, method for calculating VOC emissions, exemptions, and recordkeeping requirements.

Regulation 8.01 Mobile Source Emissions Control Requirements—This revision makes various sentence and word structure changes to add clarity, and to increase the vehicle test fee to $11.00 in order to fully fund the District Vehicle Emissions Testing (VET) program. Three revisions were also made to comply with Kentucky legislative changes that were enacted during the 2000 session that require local vehicle inspection/maintenance (I/M) programs to more closely follow the format of the state I/M program. First, the fleet subject to VET was redefined to exclude motorcycles, vehicles older than 1968 model year and trucks over 18,000 pounds. Second, the existing enforcement mechanism used against noncompliant vehicle owners, which relied on computer matching of records and civil court action, was replaced with a registration revocation process that is implemented by the Commonwealth. Third, some of the requirements for issuance of certain types of certificates were modified; minor changes were made to the reciprocal testing requirement and to the allowable exemptions for military personnel living outside of the area. The District provided documentation that the above changes were estimated to have a de minimus impact on the emission reduction capability of the program.

Regulation 8.02 Vehicle Emissions Testing Procedure—This regulation was revised to remove all testing requirements for motorcycles and vehicles older than 1968 model year. The regulation was also revised to remove the outdated idle mode exhaust gas emissions test procedure, which is no longer used.

II. Revised IBR Format Being Proposed for Approval By EPA in This Action

A. Background

Each State is required to have a SIP which contains the control measures and strategies which will be used to attain and maintain the NAAQS. The SIP is extensive, containing such elements as emission inventories, monitoring network, attainment demonstrations, and enforcement mechanisms. The control measures and strategies must be formally adopted by each state after the public has had an opportunity to comment on them. They are then submitted to EPA as SIP revisions on which EPA must take formal action to approve or disapprove.

Once these control measures are approved by EPA after notice and comment, they are incorporated into the SIP and are identified in part 52 (Approval and Promulgation of Implementation Plans), Title 40 of the Code of Federal Regulations (40 CFR part 52). The actual state regulations which are approved by EPA are not reproduced in their entirety in 40 CFR part 52, but are “incorporated by reference,” which means that the citation of a given state regulation with a specific effective date has been approved by EPA. This format allows both EPA and the public to know which measures are contained in a given SIP and insures that the state is enforcing the regulations. It also allows EPA and the public to take enforcement action, should a state not enforce its SIP-approved regulations.

The SIP is a living document which can be revised by a state as necessary to address the unique air pollution problems in the state. Therefore, EPA from time to time must take action on SIP revisions which may contain new and/or revised regulations. On May 22, 1997, (62 FR 27968), EPA revised the procedures for incorporating by reference federally-approved SIP regulations, as a result of consultations between EPA and Office of Federal Register. EPA began the process of developing (1) a revised SIP document for each state that would be IBR under the provisions of 1 CFR part 51; (2) a revised mechanism for announcing EPA approval of revisions to an applicable SIP and updating both the IBR document and the CFR, and (3) a revised format of the “Identification of plan” sections for each applicable subpart to reflect these revised IBR procedures. The description of the revised SIP document, IBR procedures and “Identification of plan” format are discussed in further detail in the May 22, 1997, (62 FR 27968) Federal Register. On May 27, 1999 (64 FR 28748), EPA revised the format of 40 CFR part 52 for materials submitted by the Commonwealth of Kentucky that are IBR into the Kentucky SIP. This action is proposing to revise the format for materials that are IBR into the Jefferson County portion of the Kentucky SIP.

B. Content of Revised IBR Document

The new SIP compilations contain the federally-approved portion of regulations and source specific SIP revisions submitted by each state agency. These regulations and source specific SIP revisions have all been approved by EPA through previous rule making actions in the Federal Register or are being proposed for approval in this Federal Register.

Each compilation consists of two parts. Part 1 contains the regulations and part 2 contains the source specific SIP revisions that have been approved as part of the SIP. Each part has a table of contents identifying each regulation or each source specific SIP revision. The table of contents in the compilation corresponds to the table of contents published in 40 CFR part 52 for these states. The Regional EPA Offices have the primary responsibility for ensuring accuracy and updating the compilations on an annual basis. The Region 4 EPA Office developed and will maintain the compilation for Jefferson County, Kentucky. A copy of the full text of a state's current compilation will also be maintained at the Office of Federal Register and EPA's Air Docket and Information Center. This revised format is consistent with the SIP compilation requirements of section 110(h)(1) of the Clean Air Act (CAA).

C. Revised Format of the “Identification of Plan” Sections in Each Subpart

In order to better serve the public, EPA is proposing to revise the organization of the “Identification of plan” section and including additional information which will make it clearer as to what provisions constitute the enforceable elements of the SIP.

The revised Identification of plan section will contain five subsections: (a) Purpose and scope, (b) Incorporation by reference, (c) EPA-approved regulations, (d) EPA-approved source-specific SIP revisions, and (e) EPA-approved nonregulatory provisions such as transportation control measures, statutory provisions, control strategies, monitoring networks, etc.

D. Enforceability and Legal Effect

All revisions to the applicable SIP become federally enforceable as of the effective date of the revisions to paragraphs (c), (d) or (e) of the applicable identification of plan found in each subpart of 40 CFR part 52. To facilitate enforcement of previously-approved SIP provisions and provide a smooth transition to the new SIP processing system, EPA is retaining the original “Identification of Plan” section, previously appearing in the CFR as the first or second section of part 52 for each State subpart. After an initial two year period, EPA will review its experience with the new system and enforceability of previously-approved SIP measures, and will decide whether or not to retain the “Identification of plan” appendices for some further period.

III. Administrative Requirements

Under Executive Order 12866 (58 FR 51735, October 4, 1993), this action is not a “significant regulatory action” and therefore is not subject to review by the Office of Management and Budget. This action merely proposes to approve state law as meeting federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Public Law 104-4). This proposed rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely proposes to approve a state rule implementing a federal standard, and does not alter the relationship or the distribution of power and responsibilities established in the CAA. This proposed rule also is not subject to Executive Order 13045 (62 FR 19885, April 23, 1997), because it is not economically significant.

In reviewing SIP submissions, EPA's role is to approve state choices, provided that they meet the criteria of the CAA. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. As required by section 3 of Executive Order 12988 (61 FR 4729, February 7, 1996), in issuing this proposed rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This proposed rule does not impose an information collection burden under the provisions of the Paperwork Reduction Act of 1995 (44 U.S.C. 3501 et seq.).

List of Subjects in 40 CFR Part 52

Environmental protection, Air pollution control, Carbon monoxide, Hydrocarbons, Incorporation by reference, Intergovernmental relations, Lead, Nitrogen dioxide, Ozone, Particulate matter, Reporting and recordkeeping requirements, Sulfur oxides.

Dated: June 7, 2001.
A. Stanley Meiburg,
Acting Regional Administrator, Region 4.

[FR Doc. 01-15616 Filed 6-20-01; 8:45 am]

BILLING CODE 6560-50-P